ENVIRONMENTAL PROTECTION AGENCY

[FRL-8968-5]

Proposed CERCLA Administrative Cashout Settlement; Le Roi Smelter Site, Northport, WA

AGENCY: Environmental Protection Agency (EPA).

ACTION: Notice; request for public comment.

SUMMARY: In accordance with section 122(i) of the Comprehensive Environmental Response, Compensation, and Liability Act, as amended (CERCLA), 42 U.S.C. 9622(i), notice is hereby given of a proposed administrative settlement for recovery of past response costs incurred at the Le Roi Smelter Site in Northport, Washington, with settling parties: The Cecil A. Frazier Exemption Equivalent Trust and the Estate of Marie M. Frazier. The settlement requires the settling parties to pay One Hundred Thousand Dollars ($100,000) to the Hazardous Substance Superfund, to implement certain institutional controls, and to execute an option to sell the Site to the town of Northport. The settlement includes a covenant not to sue or take administrative action against the settling party pursuant to section 107(a) of CERCLA, 42 U.S.C. 9607(a) for recovery of past response costs. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before November 13, 2009.

ADDRESSES: The proposed settlement is available for public inspection at the U.S. EPA Region 10 offices, located at 1200 Sixth Avenue, Seattle, Washington 98101. A copy of the proposed settlement may be obtained from Carol Kennedy, Regional Hearing Clerk, U.S. EPA Region 10, Mail Stop ORC-158, 1200 Sixth Avenue, Suite 900, Seattle, Washington 98101; (206) 553-0242. Comments should reference the Le Roi Smelter Site in Northport, Washington, EPA Docket No. CERCLA-10-2009-0095 and should be addressed to Alexander Fidis, Assistant Regional Counsel, U.S. EPA Region 10, Mail Stop ORC-158, 1200 Sixth Avenue, Suite 900, Seattle, Washington 98101.

FOR FURTHER INFORMATION CONTACT: Alexander Fidis, Assistant Regional Counsel, U.S. EPA Region 10, Mail Stop ORC-158, 1200 Sixth Avenue, Suite 900, Seattle, Washington 98101; (206) 553-4710.

SUPPLEMENTARY INFORMATION: The Le Roi Smelter Site is located in Northport, Stevens County, Washington (Site). Site operations conducted between 1898 and 1921 involved the smelting and processing or ore. Between 1953 and 1998, the Site was operated as a lumber mill. Site smelting operations produced slag that contained hazardous substances including the heavy metals lead and arsenic. Slag was disposed of at the Site and discharged to the Columbia River through a series of flumes. The smelter smokestack emitted ore constituents, including lead and arsenic, which were dispersed and deposited at the Site and on nearby properties. In 2004, the Agency selected and implemented a removal action to address public health and environmental threats from the presence of lead and arsenic contaminated soil at concentrations above applicable cleanup standards. The removal action involved the demolition of historic smelter structures and the excavation of contaminated soil from the Site and twenty-nine residential and common use properties. The smelter structure and excavated soil was consolidated at the Site beneath a protective cap.

The Site is currently owned by the Cecil A. Frazier exemption equivalent trust. The Agency is proposing to enter into an administrative settlement with the Cecil A. Frazier Exemption Equivalent Trust and the Estate of Marie M. Frazier. The settlement would require the settling parties to pay $100,000 to the Hazardous Substance Superfund and to implement institutional controls developed to ensure the removal action remains protective of human health and the environment. The institutional controls would be implemented by recording an environmental covenant pursuant to Washington's Uniform Environmental Covenant Act that would impose certain restrictions on the use of the property and obligations to maintain components of the removal action such as the protective cap. The settlement agreement would also require the settling parties to provide the town of Northport with an option to purchase the Site for the purpose of placing the Site back in productive use that is consistent with the imposed institutional controls. The proposed settlement will provide the settling parties with a release of liability subject to certain rights reserved by the Agency.

Dated: October 2, 2009.
Lori Cohen,
Acting Director, Office of Environmental Cleanup.

[FR Doc. E9-24707 Filed 10-13-09; 8:45 am]

BILLING CODE 6560-50-P